DEPARTMENT OF DEFENSE

GENERAL SERVICES ADMINISTRATION

NATIONAL AERONAUTICS AND SPACE ADMINISTRATION

[OMB Control No. 9000-0007; Docket No. 2018-0003; Sequence No. 6]

Submission for OMB Review; Subcontracting Plans

AGENCY: Department of Defense (DOD), General Services Administration (GSA), and National Aeronautics and Space Administration (NASA).

ACTION: Notice.

SUMMARY: Under the provisions of the Paperwork Reduction Act, the Regulatory Secretariat Division will be submitting to the Office of Management and Budget (OMB) a request to review and approve an extension of a previously approved information collection requirement regarding small business subcontracting plans.

DATES: Submit comments on or before December 17, 2018.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0007, Subcontracting Plans.

Instructions: Please submit comments only and cite Information Collection 9000-0007, Subcontracting Plans, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Zenaida Delgado, Procurement Analyst, at telephone 202-969-7207, or email zenaida.delgado@gsa.gov.

SUPPLEMENTARY INFORMATION:

A. Purpose

This information collection requirement, OMB Control No. 9000-0007, currently titled “Summary Subcontract Report,” is proposed to be retitled “Subcontracting Plans,” due to consolidation with currently approved information collection requirement OMB Control No. 9000-0006, Subcontracting Plans/Individual Subcontract Report (SF 294) and ISRS, and 9000-0192, Utilization of Small Business Subcontractors.

This clearance covers the information that offerors and contractors must submit to comply with the requirements in Federal Acquisition Regulation (FAR) 52.219-9, Small Business Subcontracting Plans, regarding subcontracting plans as follows:

1. Subcontracting plan. In accordance with Section 8(d) of the Small Business Act (15 U.S.C. 637(d)), any contractor receiving a contract for more than the simplified acquisition threshold must agree in the contract that small business, veteran-owned small business, service-disabled veteran-owned small business, HUBZone small business, small disadvantaged business, and women-owned small business concerns will have the maximum practicable opportunity to participate in contract performance. Further, 15 U.S.C. 637(d) imposes the requirement that contractors receiving a contract that is expected to exceed, or a contract modification that causes a contract to exceed, $700,000 ($1.5 million for construction) and has subcontracting possibilities, shall submit an acceptable subcontracting plan that provides maximum practicable opportunities for small business, veteran-owned small business, service-disabled veteran-owned small business, HUBZone small business, small disadvantaged business, and women-owned small business concerns. Specific elements required to be included in the plan are specified in section 8(d) of the Small Business Act and implemented in FAR subpart 19.7 and the clause at 52.219-9.

2. Summary Subcontract Report (SSR). In conjunction with the subcontracting plan requirements, contractors with subcontracting plans must submit an annual summary of subcontracts awarded as prime and subcontractors for each specific Federal Government agency. Contractors submit the information in a SSR through the Electronic Subcontracting Reporting System (eSRS). This is required for all contractors with subcontracting plans regardless of the type of plan (i.e., commercial or individual).

3. Individual Subcontract Report (ISR). In conjunction with the subcontracting plan requirements, contractors with individual subcontracting plans must submit semi-annual reports of their small business subcontracting progress. Contractors submit the information through eSRS in an ISR, the electronic equivalent of the Standard Form (SF) 294, Subcontracting Report for Individual Contracts. Contracts that are not reported in the Federal Procurement Data System (FPDS) in accordance with FAR 4.606(c)(5) do not submit ISRs in eSRS; they will continue to use the SF 294 to submit the information to the agency.

4. Written explanation for not using a small business subcontractor as specified in the proposal or subcontracting plan. Section 1322 of the Small Business Jobs Act of 2010 (Jobs Act), Public Law 111-240, amends the Small Business Act (15 U.S.C. 637(d)(6)) to require as part of a subcontracting plan that a prime contractor make good faith effort to utilize a small business subcontractor during performance of a contract to the same degree the prime contractor relied on the small business in preparing and submitting its bid or proposal. If a prime contractor does not utilize a small business subcontractor as described above, the prime contractor is required to explain, in writing, to the contracting officer the reasons why it is unable to do so.

B. Public Comment

A 60 day notice was published in the Federal Register at 83 FR 38311, on August 6, 2018. No comments were received.

C. Annual Reporting Burden

1. Subcontracting plan. Subcontracting plans are provided on a contract-by-contract basis for individual subcontracting plans. Individual subcontracting plans cover the entire contract period, including options. Commercial plans are provided on an entity basis and cover the fiscal year of the contractor. The time required for development of the plan (including commercial and individual plans) is estimated as follows:

Respondents: 4,350.

Responses per Respondent: 1.

Total Annual Responses: 4,350.

Hours per Response: 5.

Total Burden Hours: 21,750.

2. Summary Subcontract Report (SSR). SSRs are submitted annually for all types of subcontracting plans. One SSR is submitted for each commercial subcontracting plan. For individual subcontracting plans, an SSR is required for every agency that funds work under the contract that the plan covers. Time required for reading, preparing information, and data entry into eSRS is estimated as follows:

Commercial Plan

Respondents: 1,653.

Responses per Respondent: 1.

Total Annual Responses: 1,653.

Hours per Response: 2.

Total Burden Hours: 3,306.

Individual Plan Without Order Level Reporting

Respondents: 10,885.

Responses per Respondent: 1.

Total Annual Responses: 10,885.

Hours per Response: 1.5.

Total Burden Hours: 16,327.5.

Individual Plan With Order Level Reporting

Respondents: 197.

Responses per Respondent: 3.

Total Annual Responses: 591.

Hours per Response: 1.5.

Total Burden Hours: 886.5.

3. Individual Subcontract Report (ISR). ISRs are submitted semi-annually for each contract with an individual subcontracting plan. The ISR consists of data for subcontracting under a given contract. ISRs are not required for commercial plans. Time required for reading, preparing information, and data entry into eSRS is estimated as follows:

Individual Plan Without Order-Level Reporting Requirement

Respondents: 10,855.

Responses per Respondent: 2.

Total Annual Responses: 21,710.

Hours per Response: 2.

Total Burden Hours: 43,420.

Individual Plan—With Order-Level Reporting Requirement

Respondents: 197.

Responses per Respondent: 2.

Total Annual Responses: 394.

Hours per Response: 5.

Total Burden Hours: 1,970.

4. Written explanation for not using a small business subcontractor as specified in the proposal or subcontracting plan. This explanation is submitted on a contract-by-contract basis. FPDS for FY 2017 identified 3,808 contracts with individual subcontracting plans and 542 entities awarded contracts with commercial plans, for a total of 4,350 plans for FY 2017. We estimate that at most 50%, or 2,175, of these contracts with subcontracting plans may have instances of the prime contractor not using a small business subcontractor to the same extent used in preparing the bid or proposal. We estimate two hours as the average time required to read and prepare information for this collection.

Respondents: 2,175.

Responses per Respondent: 1.

Total Annual Responses: 2,175.

Hours per Response: 2.

Total Burden Hours: 4,350.

5. Summary.

Respondents: 30,312.

Total Annual Responses: 41,758.

Total Burden Hours: 92,010.

Obtaining Copies: Requesters may obtain a copy of the information collection documents from the General Services Administration, Regulatory Secretariat Division (MVCB), 1800 F Street NW, Washington, DC 20405, telephone 202-501-4755. Please cite OMB Control No. 9000-0007, Subcontracting Plans, in all correspondence.

Dated: November 9, 2018.
Janet Fry,
Director, Federal Acquisition Policy Division, Office of Governmentwide Acquisition Policy, Office of Acquisition Policy, Office of Governmentwide Policy.

[FR Doc. 2018-24931 Filed 11-14-18; 8:45 am]

BILLING CODE 6820-EP-P